DEPARTMENT OF THE INTERIOR

Bureau of Land Management

[UT-923-03-1320-00]

Fair Market Value Meeting for the South Crandall Canyon Coal Tract, Emery County, UT

AGENCY: Bureau of Land Management, Interior.

ACTION: Notice of public meeting and call for public comment on the proposed sale and fair market value and maximum economic recovery consideration for coal lease application UTU-78953.

SUMMARY: The Bureau of Land Management (BLM) will hold a public meeting on March 17, 2003, for the proposed competitive sale, of the South Crandall Canyon coal Tract. BLM requests public comment on the fair market value and environmental effects of this tract. The BLM and the Manti-La Sal National Forest signed a Decision Notice/Finding of No Significant Impact dated February 13, 2003 that discusses the environmental effects of mining this tract. The Notice of Decision was published in the Emery County Progress and the Sun Advocate on February 18, 2003. The lands included in the delineated Federal coal lease tract (“South Crandall Canyon”) are located in Emery County, Utah approximately 5 miles north of Huntington, Utah on public lands located in the Manti-La Sal National Forest and are described as follows:

T. 16 S., R. 7 E., SLM, Emery County, Utah.

Section 4, W2SW4, S2SW4NW4,

Section 5, SE4, S2SE4NE4,

Section 8, E2, NE4NW4, S2NW4,

Section 9, NW4

Approximately 880 acres

Genwal Resources submitted the application for the coal lease. The company plans to mine the coal as an extension from their existing Crandall Canyon mine if the lease is obtained. The South Crandall Canyon coal tract has two potentially minable coal beds, the Blind Canyon and Hiawatha. The minable portions of the coal beds in this area are from 6 to 8 feet in thickness. The tract contains more than 5 million tons of recoverable high-volatile C bituminous coal. The coal quality in the seams on an “as received basis” is as follows: 12,790 Btu/lb., 5.26 percent moisture, 4.68 percent ash, 44.18 percent volatile matter, 45.88 percent fixed carbon and 0.61 percent sulfur. The public is invited to the meeting to make public and/or written comments on the environmental implications of leasing the proposed tract, and also to submit comments on the Fair Market Value and the Maximum Economic Recovery of the tract.

SUPPLEMENTARY INFORMATION: In accordance with Federal coal management regulations 43 CFR parts 3422 and 3425, the public meeting is being held on the proposed sale to allow public comment on and discussion of the potential effects of mining and proposed lease. The meeting is being advertised in the Sun Advocate located in Price, Utah and the Emery County Progress located in Emery, Utah. 43 CFR part 3422 states that, No less than 30 days prior to the publication of the notice of sale, the Secretary shall solicit public comments on the Fair Market Value appraisal and Maximum Economic Recovery and on factors that may affect these two determinations. Proprietary data marked as confidential may be submitted to the Bureau of Land Management in response to this solicitation of public comments. Data so marked shall be treated in accordance with the laws and regulations governing the confidentiality of such information. A copy of the comments submitted by the public on fair market value and maximum economic recovery, except those portions identified as proprietary by the author and meeting exemptions stated in the Freedom of Information Act, will be available for public inspection at the Bureau of Land Management, Utah State Office during regular business hours (8 a.m.-4 p.m.) Monday through Friday. Comments on the Fair Market Value and Maximum Economic Recovery should be sent to the Bureau of Land Management and should address, but not necessarily be limited to the following information.

1. The quality and quantity of the coal resource;

2. The mining methods or methods which would achieve maximum economic recovery of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and evaluated as a portion of a new potential mine (i.e., a tract which does not in itself form a logical mining unit);

5. Restrictions to mining that may affect coal recovery;

6. The price that the mined coal would bring when sold;

7. Costs, including mining and reclamation, of producing the coal and the time of production.

8. The percentage rate at which anticipated income streams should be discounted, either with inflation or in the absence of inflation, in which case the anticipated rate of inflation should be given;

9. Depreciation, depletion, amortization and other tax accounting factors;

10. The value of any surface estate where held privately;

11. Documented information on the terms and conditions of recent and similar coal land transactions in the lease sale area;

12. Any comparable sales data of similar coal lands; and coal quantities and the Fair Market Value of the coal developed by BLM may or may not change as a result of comments received from the public and changes in the market conditions between now and when final economic evaluations are completed.

DATES: The public meeting is being held on Monday, March 17, 2003 at the Huntington Senior Citizen Center, address 100 North, 176 West, starting at 7 p.m. The building is just east of the Fire Department.

FOR FURTHER INFORMATION CONTACT: Written comments on the Fair Market Value and Maximum Economic Recovery must be received by April 14, 2003 and should be addressed to Stan Perkes, 801-539-4036, Bureau of Land Management, Utah State Office, Division of Lands and Minerals, PO Box 45155, Salt Lake City, Utah 84145-0155. Information on the Joint Decision Notice/Finding of No Significant Impact can be obtained by contacting Mr. Stan Perkes, 801-539-4036 for the Bureau of Land Management or Mr. Karl Boyer or Mr. Carter Reed, 435-637-2817 at the Manti-La Sal National Forest Supervisors Office, Price, Utah. The appeal periods for Joint Decision Notice/Finding of No Significant Impact document for the Forest Service Decision to consent to leasing will end on April 4, 2003 and the appeal period for BLM's decision to lease will end on March 20, 2003. Any appeals must be postmarked as of these dates.

Dated: February 24, 2003.
Kent Hoffman,
DSD, Division of Lands and Minerals.

[FR Doc. 03-4853 Filed 2-28-03; 8:45 am]

BILLING CODE 4310-AG-P